DEPARTMENT OF TRANSPORTATION

Federal Aviation Administration

Electronic Subscription Service for Airworthiness Directives and Special Airworthiness Information Bulletins

AGENCY: Federal Aviation Administration (FAA), DOT.

ACTION: Notice of policy change.

SUMMARY: This notice publishes additional information about the FAA's planned transition to electronic distribution of airworthiness directives (ADs) and special airworthiness information bulletins (SAIB) through an e-mail subscription service. This notice gives more details and the schedule for the electronic distribution system, and addresses comments we received in response to Aircraft Engineering Division's previous notice about the plan. The previous notice was titled “Printing and Distribution Changes for Airworthiness Directives and Special Airworthiness Information Bulletins” and was published in the Federal Register on August 24, 2006.

DATES: Comments must be received on or before April 2, 2007.

ADDRESSES: Send your comments on the planned policy changes electronically by logging onto the following Web site: http://www.faa.gov/aircraft/draft_docs/ or you may e-mail comments to: 9-amc-air-140-policy. You may mail a hard copy of your comments to: Federal Aviation Administration, Aircraft Engineering Division, Delegation and Airworthiness Programs Branch, AIR-140, MMAC, P.O. Box 26460, Oklahoma City, OK 73125. Attn: Mary Ellen Anderson. Finally, you may deliver comments to: Federal Aviation Administration, Room 815, 800 Independence Avenue, SW., Washington, DC 20591.

FOR FURTHER INFORMATION CONTACT: Mary Ellen Anderson, Federal Aviation Administration, Aircraft Certification Service, Aircraft Engineering Division, Delegation and Airworthiness Programs Branch, AIR-140, 6500 S. MacArthur Blvd., ARB 308; Oklahoma City, Oklahoma 73169; phone: (405) 954-7071; fax: (405) 954-2209.

SUPPLEMENTARY INFORMATION:

Comments Invited

Interested persons are invited to comment on the planned policy changes by submitting written data, views, or arguments to the above address. Comments received may be examined, both before and after the closing date, at the Federal Aviation Administration, Room 815, 800 Independence Avenue, SW., Washington, DC 20591, weekends except Federal holidays, between 8:30 a.m. and 4:30 p.m. The Director, Aircraft Certification Service, will consider all comments received on or before the closing date.

Background

ADs are enforceable rules that apply to products (aircraft, aircraft engines, propellers, and appliances), published to address an unsafe condition per CFR Part 39 criteria. All ADs are currently available to the public via: (1) Federal Register at http://www.gpoaccess.gov/fr/advanced.html; (2) FAA's Regulatory and Guidance Library (RGL) Web site at http://rgl/faa.gov; and (3) paper mailings to all registered owners and operators of the affected product.

We also issue a type of AD called an emergency AD when an unsafe condition exists that requires immediate corrective action. We mail or fax emergency ADs to all registered owners and operators of the affected product, and publish a final rule version soon after in the Federal Register.

SAIBs provide recommended actions that owners and operators may use to improve the safety of their products. Because the information contained in SAIBs is not mandatory, we do not publish SAIBs in the Federal Register. Effective January 2007, we added SAIBs to our RGL Web site, making it much easier to access and search on these safety documents.

Paper mailing of ADs and SAIBs is a slow, expensive, and inefficient method of delivering safety-related information to affected parties, requiring a massive paper printing and distribution management system. In 2005, we processed and mailed more than 1,000,000 copies of ADs to affected owners and operators. It often takes 5 to 6 days for the owner or operator to receive the mailed copy. And, because of inaccurate or obsolete addresses in FAA's Aircraft Registry database, we typically receive thousands of returned ADs. In light of these difficulties as well as ongoing budgetary constraints, we are pursuing ways to improve our efficiency in distribution of safety information.

Discussion

This notice introduces “GovDelivery” for all ADs and SAIBs—an e-mail subscription management system designed specifically for the public sector. Owners, operators, and any interested party will be able to sign up through FAA's RGL Web site at http://rgl.faa.gov, and will receive both ADs and SAIBs once subscription is completed. Subscribers will be able to select to receive all documents or only those pertaining to a specific product make and model. They will also have the option to receive general categories such as ‘small airplane’ or ‘engine.’ The subscription service will generally deliver the AD or SAIB to each e-mail address within minutes after publication in our RGL Web site. All ADs will continue to be published in the Federal Register, and all ADs and SAIBs will continue to be available at our RGL Web site.

Once we are assured that the GovDelivery service is working correctly, we will transition away from paper mailings of ADs. We are asking industry representative groups to help with this transition by making aviation stakeholders aware of the new subscription service for ADs and SAIBs. While we anticipate that GovDelivery service will provide a timely and cost-effective method of ensuring that affected parties receive the safety information they need, we will be monitoring the system to validate that the service is meeting the needs of our customers.

We issued a previous notice in the Federal Register on August 24, 2006, titled “Printing and Distribution Changes for Airworthiness Directives and Special Airworthiness Information Bulletins.” That notice outlined immediate changes to our mailing processes for ADs and SAIBs. We provided the public the opportunity to comment on that notice and have considered all comments we received. Our responses to those comments are provided following the policy discussed below.

Policy

We expect to make the GovDelivery electronic e-mail service available for ADs and SAIBs available in May 2007. All interested parties are encouraged to subscribe to this service on our RGL Web site at http://rgl.faa.gov. Once GovDelivery is available and we are confident in the accurate and timely electronic dissemination of ADs and SAIBs to our subscribers, we will begin implementation of the following changes to our AD/SAIB distribution processes:

(a) We will phase out paper mailing of ADs within a two-month period after GovDelivery becomes available except as described in (b) below. We will manage the phase-out based on the number and types of subscribers signed up in the GovDelivery system.

(b) For now, we will continue to mail or fax emergency ADs to affected owners and operators. We are working on a method to deliver emergency ADs electronically in future, that will assure and record receipt when sent to affected parties.

(c) We will discontinue the existing emergency AD subscription service that is currently available on the RGL Web site, since the GovDelivery service will send emergency ADs (and their final rule versions) to subscribers who have selected to receive ADs of that make/model or category.

(d) We will discontinue the existing SAIB subscription service that is currently available on the FAA Web site, to allow integration with the AD portion of the subscription service.

(e) We will no longer mail or e-mail ADs or SAIBw to FAA offices and civil airworthiness authorities (CAAs) of other countries. Instead, we will encourage all interested FAA personnel as well as the CAAs to sign-up through GovDelivery to receive these documents.

Comments to Previous Notice

Several commenters expressed support for the planned electronic distribution of ADs and SAIBs. One commenter stated that it would be easier to receive ADs and SAIBs electronically instead of “logging on and searching through databases to find applicable ADs and SAIBs.” We agree. GovDelivery service will allow subscribers to receive ADs and SAIBs by e-mail.

Recommendation to Continue Paper Mailings

AOPA recommended that we continue paper mailing of ADs and SAIBs until we make enhancements to our e-mail subscription service to ensure the continued availability and dissemination of relevant safety information. We partially agree. Due to the existing e-mail service for SAIBs we discontinued these mailings in 2006. However, we will continue mailing ADs until we are assured the new GovDelivery service is available and working correctly for both ADs and SAIBs. To publicize the service we have added “alerts” on our RGL AD web page and are announcing the coming GovDelivery service on the back of every AD mailed out.

Recommendation To Update the SAIB e-mail Subscription Service

AOPA recommended we enhance the existing SAIB e-mail service to allow selection of SAIBs based on aircraft or engine make and model. We agree. GovDelivery service will allow the user to subscribe to and receive SAIBs selected by make/model instead of having to receive all issued SAIBs.

Continuation of FAA AD Bi-Weekly

A representative for a repair station asked whether the FAA will continue to compile and issue the bi-weekly list of ADs. We are making no change to the AD Bi-weekly process at this time, and will continue to publish the Bi-Weekly report until further notice.

Recommendation To Continue Mailing “Engine type” ADs

Continental Airlines, AOPA, NATCA and others expressed concern that we misstated the user's ability to ‘register an engine’ in the FAA Aircraft Registry. We agree that this terminology was incorrect, since aircraft owners cannot register their engine in the Registry. When they register an airframe they can choose to also identify the engine installed on the airframe; our intent was to use this engine data to support AD mailings. However, we have decided to continue mailing ADs to all owners of engine models identified in an AD, as well as owners of airframe models called out in the “installed on, but not limited to” applicability. We will continue this practice until we implement the GovDelivery service.

Recommendation To Mail/Final Rule version of Emergency ADs

AOPA and NATCA stated that sometimes the content of an emergency AD changes between its issuance and the issuance of the final rule version, and for this reason we should mail the final rule copy of the emergency AD as well. We disagree. The final rule version must be substantively equal to the emergency AD to avoid serious legal consequences. If it changes in substance from the emergency AD version, we assign a different AD number and issue another AD. Since the final rule version is equivalent it is not necessary to mail it in addition to the emergency AD. Not that once the GovDelivery service is in place, both versions (the emergency AD and its final rule) will be e-mailed to subscribers for the AD's applicability.

Notification of the Public About This Policy Change

NATCA wrote that the distribution of paper copies of ADs has been the standard for decades. This is a significant policy change that should be made aware to the public and open for public debate. NATCA requests that we withdraw the notice and resubmit it for comment. NATCA also states that FAA has been heavy-handed in lowering the safety level of aircraft by making significant changes in (other) policies. This final policy change must not be implemented for a period of time (six months) and be distributed in writing (published on paper) to all affected organizations, foreign authorities, and every registered aircraft owner, operator, repair stations, airline, etc. this would allow those in the public that do not currently have internet access time to obtain access.

We partially agree. Since the previous notice, issued in August 2006, contained a request for comments, we see no need to withdraw the notice and resubmit it. We also do not concur that we have in any way lowered the safety level of aircraft. Rather, we expect to improve safety by increasing the timeliness and accuracy of our delivery system. However, we agree that the public should have the opportunity to review and comment on these changes, which was the purpose of the previous notice as well as this one. With these notices we will have informed interested parties more than six months prior to our expected implementation date.

Conflict With Existing FAA Policy

NATCA stated that this notice is in conflict with (AD Manual) M-8040.1, Section 17 that mandates the procedures the FAA will follow to distribute paper copies to the public. The proposed policy must note any and all FAA policies/orders that will be affected. We agree that changes to the AD Manual will be necessary in order to align with this planned policy change. We will include these changes in a future revision to the AD Manual once this policy is finalized.

Notification of the Union About This Policy Change

NATCA commented that FAA has failed to coordinate this planned policy change with the NATCA union. This is a significant change in the working conditions of the NATCA bargaining unit employees in AIR, especially AIR-140. If the agency proceeds with these changes, NATCA expects the agency to comply with the legal requirements to notify and negotiate with NATCA prior to implementation. No training has been identified for the workforce.

FAA will comply with all legal requirements. Per the requirements we have assessed this planned policy change and have determined that there is no significant change to working conditions and any impact to bargaining unit employees is ‘de minimis.’ No new skills, resources, equipment, or training are expected to be required to order to implement this change.

Questionable Use of Federal Funds

NATCA stated that FAA should make public the current costs of publishing ADs and SAIBs, and it should be made part of the public record where the money that should have been used for publishing will be spent instead. It should also be noted if this is a “business plan” item and if any managers will receive an award/bonus/pay increase due to the implementation of this notice.

We considered current costs as a factor in deciding to change this policy, and have estimated the savings in reduced printing costs at about $240,000 per year. However, we have no way of determining where these funds will be spent instead, so are unable to provide this information. No managers have received or will receive extra compensation for its implementation. This policy change is not a “business plan” item but supports an FAA Flight Plan item.

Issued in Washington, DC, on February 26, 2007.
Susan J.M. Cabler,
Acting Manager, Aircraft Engineering Division, Aircraft Certification Service.

[FR Doc. 07-921 Filed 2-28-07; 8:45 am]

BILLING CODE 4910-13-M